DELAWARE RIVER BASIN COMMISSION

Notice of Commission Meeting and Public Hearing

Notice is hereby given that the Delaware River Basin Commission will hold an informal conference followed by a public hearing on Wednesday, April 3, 2002. The hearing will be part of the Commission's regular business meeting. The conference session and business meeting both are open to the public and will be held at the Commission offices at 25 State Police Drive, West Trenton, New Jersey.

The conference among the Commissioners and staff will begin at 9:30 a.m. Topics of discussion will include: updates on the Comprehensive Plan, a set of Water Quality Standards revisions under development by the Water Quality Advisory Committee, and proposed resolutions to protect existing water quality in the Lower Delaware River; a report of the Flow Management Technical Advisory Committee concerning extending or replacing the Experimental Augmented Conservation Release Program for the New York City Delaware Basin Reservoirs; a report on the PCB Expert Panel meeting of February 12, 2002; and a proposed resolution regarding additional point source discharge monitoring required to support development of a TMDL for PCBs in the Delaware Estuary.

The subjects of the public hearing to be held during the 1:00 p.m. business meeting include, in addition to the dockets listed below, a resolution revising and extending Docket No. D-77-20 CP (Revision 4) to continue the Augmented Conservation Release Program for the New York City Delaware Basin Reservoirs, and a resolution to issue Guidelines for Developing an Integrated Resource Plan under the Delaware River Basin Commission Ground Water Protected Area Regulations.

The dockets scheduled for public hearing are as follows:

1. Holdover Project: Philadelphia Suburban Water Company D-98-11 CP. A project to withdraw up to 4.0 million gallons per day (mgd) from the East Branch Brandywine Creek for public water supply when streamflow exceeds 25 percent of the average daily flow and is also greater than 90 mgd for the Brandywine River at Chadds Ford. The applicant proposes to serve portions of Wallace, East Brandywine and West Brandywine Townships, all in Chester County, Pennsylvania. The intake will be situated on the east bank of the East Branch Brandywine Creek just south of Marshall Road in Wallace Township. On a yearly use basis, withdrawal is expected to average approximately 0.76 mgd. When available, the raw water will be conveyed for storage in a nearby abandoned quarry (known as Cornog Quarry) with an estimated storage capacity of approximately 100 mg. Withdrawals ranging from 0.5 mgd to 1.0 mgd will then be made from the quarry, treated by a proposed new filter plant, and distributed to the project service area.

2. Boeing Defense and Space Group D-94-30 (Revision). A project to revise the NPDES Permit limits for effluent metals parameters listed in Docket No. D-94-30 to reflect modifications which are consistent with current water quality regulations. No increase in the industrial waste treatment plant (IWTP) capacity of 0.234 mgd is proposed. The IWTP will continue to serve the applicant's military aircraft manufacturing operation in Ridley Creek Township, Delaware County, Pennsylvania. No modifications of the treatment process are proposed, as the applicant continues to utilize the Best Available Treatment (BAT) for the industrial classification. IWTP effluent will continue to discharge to the tidal reach of Crum Creek in Water Quality Zone 4, about a half-mile upstream of its confluence with the Delaware River.

3. Perkasie Borough Authority D-97-12 CP (Revision). A ground water withdrawal project to increase the existing withdrawal from the applicant's existing Wells Nos. 5, 6, 9, 10, 11 and 12 to 40.2 mg/30 days. The project is located in the Three Mile Run and Perkiomen Creek watersheds in Perkasie Borough, Bucks County, in the Southeastern Pennsylvania Ground Water Protected Area.

4. Mercer County Improvement Authority D-99-28 CP. A surface water withdrawal project via a new intake on Assunpink Creek at Mercer Lake to withdraw up to 1.3 mgd of water. The new intake, in addition to an existing intake, which can also provide up to 1.3 mgd, will irrigate the applicant's Mercer Oaks II Golf Course with a total limit of 15 mg/mo. The project is located off Quakerbridge Road in West Windsor Township, Mercer County, New Jersey.

5. Artesian Water Company D-2000-46 CP. An application for approval of a ground water withdrawal project to supply up to 63.94 mg/30 days of water to the Delaware Correctional Center from existing Wells Nos. 1 and 2 in the Rancocas Formation; and new Wells Nos. 3 and 4 in the Mount Laurel Formation, and to limit the withdrawal from all wells to 63.94 mg/30 days. The project is located near the Town of Smyrna, New Castle County, Delaware.

6. United Water Delaware D-2001-37 CP. A ground water withdrawal project to supply up to 8.7 mg/30 days of water to the applicant's public water supply system for new Well No. 1 in the Potomac Formation. The project is located in the Christina River watershed in New Castle County, Delaware.

7. Camelback Ski Corporation D-2001-40. A project for a tiered increase of the surface water withdrawal from the applicant's intake on Pocono Creek in the Brodhead Creek Watershed from a maximum seasonal use of 84.6 mg/30 days to 130 mg/30 days during the period between December and January. Up to 50 mg is proposed in the months of November and February, and 15 mg in March. The water supplies the applicant's snowmaking operation at the Camelback Ski Resort in Pocono Township, Monroe County, Pennsylvania. During the months of April through October, the applicant will use water for minor maintenance purposes averaging less than 100,000 gpd.

8. Philadelphia Suburban Water Company D-2001-50 CP. A ground water withdrawal project to supply up to 7.68 mg/30 days of water to the applicant's public water supply system from new Well “B” in the Brunswick Formation. The project is located in the Perkiomen Creek watershed in Perkiomen Township, Montgomery County, in the Southeastern Pennsylvania Ground Water Protected Area.

9. Aronimink Golf Club D-2001-62. A ground water withdrawal project to supply up to 6.48 mg/30 days of water to the applicant's irrigation system from new Wells Nos. 2 and 3 in the crystalline rock of the Piedmont Province and to limit the existing withdrawal from all wells to 10.8 mg/30 days. The project is located in the Darby Creek watershed in Newtown Township, Delaware County, Pennsylvania.

10. Hanah Country Inn D-2002-7. A project to expand a 9,000 gpd secondary septic treatment system to treat 13,830 gpd and provide a new subsurface discharge leach field at the applicant's 900 acre lodging facility located in the Town of Middletown, Delaware County, New York. The project is in the drainage area to the Delaware River Basin Commission's Special Protection Waters. The site is located on both sides of State Route 30, between County Route 38 (Arkville Road) and East Hubbell Road. The project is in the East Branch Delaware River Watershed, upstream from Pepacton Reservoir.

In addition to the public hearing items, the Commission will address the following at its 1:00 p.m. business meeting: Minutes of the February 6, 2002 business meeting; announcements; a report on Basin hydrologic conditions; reports by the Executive Director and General Counsel; a resolution regarding additional point source discharge monitoring required to support development of a TMDL for PCBs in the Delaware Estuary; a resolution authorizing the Executive Director to enter into a grant agreement with the State of New Jersey in the amount of $100,000 for the Lower Delaware Watershed Region Program Grant: Delaware River Estuary Air, Water and Sediment Field Study; and public dialogue.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary, Pamela M. Bush, directly at 609-883-9500 ext. 203 or through the New Jersey Relay Service at 1-800-852-7899 (TTY), to discuss how the Commission may accommodate your needs.

Dated: March 19, 2002.
Pamela M. Bush,
Commission Secretary.

[FR Doc. 02-7060 Filed 3-22-02; 8:45 am]

BILLING CODE 6360-01-P